DEPARTMENT OF JUSTICE

Office of the Attorney General

28 CFR Part 0

[Docket No. OAG 161; AG Order No. 4443-2019]

Updating the Description of Functions for the Executive Office for United States Attorneys

AGENCY: Department of Justice.

ACTION: Final rule.

SUMMARY: This final rule amends the organizational regulations of the Department of Justice to make ministerial changes to the description of the organization and functions of the Executive Office for United States Attorneys (EOUSA).

DATES: Effective April 26, 2019.

FOR FURTHER INFORMATION CONTACT: Jay Macklin, General Counsel, Executive Office for United States Attorneys, Department of Justice, Washington, DC 20530; (202) 252-1600.

SUPPLEMENTARY INFORMATION: 28 CFR part 0 provides for the organization of the Department of Justice. As part of that regulation, 28 CFR 0.22, subpart D-1, Executive Office for U.S. Attorneys, describes the general functions of EOUSA. The current regulation provides that EOUSA shall publish and maintain a U.S. Attorneys' Manual. Recently, however, the name of the U.S. Attorneys' Manual was changed to the Justice Manual. This final rule makes ministerial revisions to 28 CFR 0.22 to reflect that name change. It also makes minor revisions to reflect the current functions of EOUSA's Office of Legal Education. The proposed changes are ministerial in nature rather than substantive.

Regulatory Certifications

Administrative Procedure Act

This rule relates to a matter of agency management or personnel, is a rule of agency organization, procedure, or practice, and is not a substantive rule. As such, this rule is exempt from the usual requirements for prior notice and comment and a 30-day delay in effective date. See 5 U.S.C. 553(b) & (d).

Regulatory Flexibility Act

This rule will not have an impact on small entities because it pertains to agency personnel and administrative matters and, therefore, is not subject to the Regulatory Flexibility Act, 5 U.S.C. 601, et seq. A Regulatory Flexibility Act analysis is not required for this final rule because the Department was not required to publish a general notice of proposed rulemaking for this matter. See 5 U.S.C. 603(a).

Executive Orders 12866 and 13563—Regulatory Review

This rule has been drafted and reviewed in accordance with Executive Order 12866, “Regulatory Planning and Review,” section 1(b), The Principles of Regulation, and Executive Order 13563, “Improving Regulation and Regulatory Review,” section 1, General Principles of Regulation.

This action is “limited to agency organization, management, or personnel matters” and thus is not a “rule” for purposes of review by the Office of Management and Budget. See Executive Order 12866, “Regulatory Planning and Review,” section 3(d)(3).

Executive Order 13771—Reducing Regulation and Controlling Regulatory Costs

This rule is not a regulatory action under Executive Order 13771 because this rule imposes no costs and is not a significant regulatory action under Executive Order 12866.

Executive Order 12988—Civil Justice Reform

This regulation meets the applicable standards set forth in sections 3(a) and 3(b)(2) of Executive Order 12988.

Executive Order 13132—Federalism

This rule will not have substantial direct effects on the States, on the relationship between the national government and the States, or on the distribution of power and responsibilities among the various levels of government. Therefore, in accordance with Executive Order 13132, the Department has determined that this rule does not have sufficient federalism implications to warrant the preparation of a federalism summary impact statement.

Unfunded Mandates Reform Act of 1995

This rule will not result in the expenditure by State, local, and tribal governments, in the aggregate, or by the private sector, of $100 million or more (adjusted for inflation) in any one year, and it will not significantly or uniquely affect small governments. Therefore, no actions are necessary under the provisions of the Unfunded Mandates Reform Act of 1995, 2 U.S.C. 1501 et seq.

Congressional Review Act

This action is not a major rule as defined by the Congressional Review Act. See 5 U.S.C. 804. This action pertains to agency management, personnel, and organization and does not substantially affect the rights or obligations of non-agency parties and, accordingly, is not a “rule” as that term is defined by the Congressional Review Act. Therefore, the reporting requirement of 5 U.S.C. 801 does not apply.

List of Subjects in 28 CFR Part 0

Authority delegations (Government agencies), Government employees, Organization and functions (Government agencies), Privacy, Reporting and recordkeeping requirements, Whistleblowing.

Accordingly, by virtue of the authority vested in me as Attorney General, including 5 U.S.C. 301 and 28 U.S.C. 509 and 510, part 0 of title 28 of the Code of Federal Regulations is amended as follows:

PART 0—ORGANIZATION OF THE DEPARTMENT OF JUSTICE [AMENDED]

1. The authority citation for Part 0 continues to read as follows:

Authority: 5 U.S.C. 301; 28 U.S.C. 509, 510, 515-519.

2. Amend § 0.22 by revising paragraphs (a)(1), (b), and (c), to read as follows:

§ 0.22 General functions.

* * * * *

(a) * * *

(1) Evaluating the performance of the offices of the U.S. Attorneys, making appropriate reports and inspections and taking corrective action where indicated.

* * * * *

(b) Publish and maintain the Justice Manual and other guidance for the U.S. Attorneys' offices and those other organizational units of the Department concerned with litigation.

(c) Supervise the operation of the Office of Legal Education, which shall provide training to all Department of Justice attorney and non-attorney legal personnel and publish the Department of Justice Journal of Federal Law and Practice.

* * * * *

Dated: April 22, 2019.
William P. Barr,
Attorney General.

[FR Doc. 2019-08467 Filed 4-25-19; 8:45 am]

BILLING CODE 4410-07-P